DEPARTMENT OF DEFENSE

Office of the Secretary

32 CFR Part 199

RIN 0720-AA62

Civilian Health and Medical Program of the Uniformed Services (CHAMPUS); TRICARE; Partial Implementation of Pharmacy Benefits Program; Implementation of National Defense Authorization Act for Fiscal Year 2001

AGENCY: Department of Defense.

ACTION: Interim final rule; correction.

SUMMARY: On Friday, February 9, 2001 (66 FR 9651), the Department of Defense published an interim final rule on Partial Implementation of Pharmacy Benefits Program; Implementation of National Defense Authorization Act for Fiscal Year 2001. This document is published to make administrative corrections to the rule.

DATES: This rule is effective April 1, 2001.

FOR FURTHER INFORMATION CONTACT: Tariq Shahid, 303-676-3801.

List of Subjects in 32 CFR Part 199

Claims, Dental health, Health care, Health insurance, Individuals with disabilities, Military personnel.

Accordingly, 32 CFR part 199 is amended as follows:

1. The authority citation continues to read as follows:

Authority: 5 U.S.C. 301; 10 U.S.C. chapter 55

2. Section 199.3 is amended by redesignating paragraphs (b)(4) and (b)(5) as (b)(3) and (b)(4).

3. Section 199.18(d)(1) is amended by revising the phrase “on or before” to read “on or after”

4. Section 199.13 amended by revising paragraph (c)(3)(ii)(E)(2) to read as follows:

§ 199.13 TRICARE Dental Program.

* * * * *

(c) * * *

(3) * * *

(ii) * * *

(E) * * *

(2) Continuation of eligibility for dependents of service members who die while on active duty or while a member of the Selected Reserve or Individual Ready Reserve. Eligible dependents of active duty members while on active duty for a period of thirty-one (31) days or more and eligible dependents of Selected Reserve or Individual Ready Reserve members, as specified in 10 U.S.C. 10143 and 10144(b) respectively, who die on or after the implementation date of the TDP, and whose dependents are enrolled in the TDP on the date of the death of the active duty, Selected Reserve or Individual Ready Reserve member shall be eligible for continued enrollment in the TDP for up to three (3) years from the date of the member's death. This three-year period of continued enrollment also applies to dependents of active duty members who died within the year prior to the beginning of the TDP while the dependents were enrolled in the TFMDP. During the three-year period of continuous enrollment, the government will pay both the Government and the beneficiary's portion of the premium share. This continued enrollment is not contingent on the Selected Reserve or Individual Ready Reserve member's own enrollment in the TDP.

* * * * *

Dated: March 15, 2001.
L.M. Bynum,
Alternate OSD Federal Register Liaison Department of Defense.

[FR Doc. 01-6999 Filed 3-23-01; 8:45 am]

BILLING CODE 5001-10-M